DEPARTMENT OF TRANSPORTATION

Federal Aviation Administration

14 CFR Part 39

[Docket No. FAA-2011-0259; Directorate Identifier 2010-NM-196-AD; Amendment 39-16730; AD 2011-13-07]

RIN 2120-AA64

Airworthiness Directives; Dassault Aviation Model FALCON 7X Airplanes

AGENCY: Federal Aviation Administration (FAA), Department of Transportation (DOT).

ACTION: Final rule.

SUMMARY: We are superseding an existing airworthiness directive (AD) that applies to the products listed above. This AD results from mandatory continuing airworthiness information (MCAI) originated by an aviation authority of another country to identify and correct an unsafe condition on an aviation product. The MCAI describes the unsafe condition as:

Several occurrences of untimely radio-altimeter lock-up have been reported, where the failed radio-altimeter indicated a negative distance to the ground despite the aircraft was flying at medium or high altitude.

A locked radio-altimeter #1 leads to untimely inhibition of warnings that could be displayed along with certain abnormal conditions while the avionic system switches into landing mode during altitude cruise.

* * * * *

[Untimely radio altimeter lock-up] may cause the crew to be unaware of possible system failures that could require urgent crew's actions.

* * * * *

We are issuing this AD to require actions to correct the unsafe condition on these products.

DATES: This AD becomes effective July 27, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on March 29, 2011 (76 FR 17364), and proposed to supersede AD 2010-02-02, Amendment 39-16173 (75 FR 1697, January 13, 2010). That NPRM proposed to correct an unsafe condition for the specified products. The MCAI states:

Several occurrences of untimely radio-altimeter lock-up have been reported, where the failed radio-altimeter indicated a negative distance to the ground despite the aircraft was flying at medium or high altitude.

A locked radio-altimeter #1 leads to untimely inhibition of warnings that could be displayed along with certain abnormal conditions while the avionic system switches into landing mode during altitude cruise.

* * * * *

[Untimely radio altimeter lock-up] may cause the crew to be unaware of possible system failures that could require urgent crew's actions.

To address this unsafe condition, [EASA] AD 2009-0208 was issued on 13 October 2009 [which corresponds with FAA AD 2010-02-02]. It mandated application of a new abnormal Airplane Flight Manual (AFM) procedure when radio-altimeter #1 lock-up occurs and prohibited dispatch of the aeroplane with any radio-altimeter inoperative.

Since AD 2009-0208 was issued, Easy avionics load 10 has been developed with change M0566 or Service Bulletin (SB) Falcon 7X n°100 that brings new features to display a “RA miscompare” flag on both Primary Display Units (PDU) and accepts a commanded system reversion to the correct radio-altimeter output.

EASA AD 2009-0208R1 is issued to allow not deactivating radio-altimeter #1 in case lock-up conditions occur in flight for aeroplanes on which M0566 or SB Falcon 7X n°100 has been embodied.

You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect about 24 products of U.S. registry.

The actions that are required by AD 2010-02-02 and retained in this AD take about 1 work-hour per product, at an average labor rate of $85 per work-hour. Based on these figures, the estimated cost of the currently required actions is $85 per product.

We estimate that it will take about 1 work-hour per product to comply with the new basic requirements of this AD. The average labor rate is $85 per work-hour. Based on these figures, we estimate the cost of this AD to the U.S. operators to be $2,040, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a ”significant regulatory action” under Executive Order 12866;

2. Is not a ”significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-16173 (75 FR 1697, January 13, 2010) and adding the following new AD:

2011-13-07 Dassault Aviation: Amendment 39-16730. Docket No. FAA-2011-0259; Directorate Identifier 2010-NM-196-AD.

Effective Date

(a) This airworthiness directive (AD) becomes effective July 27, 2011.

Affected ADs

(b) This AD supersedes AD 2010-02-02, Amendment 39-16173.

Applicability

(c) This AD applies to Dassault Aviation Model FALCON 7X airplanes, certificated in any category, all serial numbers.

Subject

(d) Air Transport Association (ATA) of America Code 34: Navigation.

Reason

(e) The mandatory continuing airworthiness information (MCAI) states:

Several occurrences of untimely radio-altimeter lock-up have been reported, where the failed radio-altimeter indicated a negative distance to the ground despite the aircraft was flying at medium or high altitude.

A locked radio-altimeter #1 leads to untimely inhibition of warnings that could be displayed along with certain abnormal conditions while the avionic system switches into landing mode during altitude cruise.

* * * * *

[Untimely radio altimeter lock-up] may cause the crew to be unaware of possible system failures that could require urgent crew's actions.

* * * * *

Compliance

(f) You are responsible for having the actions required by this AD performed within the compliance times specified, unless the actions have already been done.

Restatement of Requirements of AD 2010-02-02, With Revised Affected Airplanes

(g) For airplanes on which modification M0566 or Dassault Service Bulletin Falcon 7X-100 has not been accomplished: Within 14 days after January 28, 2010 (the effective date of AD 2010-02-02), revise the Limitations Section of the Dassault Falcon 7X Airplane Flight Manual (AFM) to include the following statement. This may be done by inserting a copy of this AD in the AFM.

“If radio-altimeter #1 lock-up conditions occur in flight, power off radio-altimeter #1, in accordance with the instructions of Falcon 7X AFM procedure 3-140-65.

Dispatch of the airplane with any radio-altimeter inoperative is prohibited.”

Note 1: When a statement identical to that in paragraph (g) of this AD has been included in the general revisions of the AFM, the general revisions may be inserted into the AFM, and the copy of this AD may be removed from the AFM.

New Requirements of This AD

(h) For airplanes on which M0566 or Dassault Service Bulletin Falcon 7X-100 has been accomplished: Within 14 days after the effective date of this AD, revise the Limitations Section of the Dassault Falcon 7X AFM to include the following statement. This may be done by inserting a copy of this AD in the AFM. Doing this revision terminates the requirements of paragraph (g) of this AD.

“If radio-altimeter #1 lock-up conditions occur in flight, revert to the correct radio-altimeter output, in accordance with the instructions of Falcon 7X AFM procedure 3-140-65B and 3-140-70A.

Dispatch of the airplane with any radio-altimeter inoperative is prohibited.”

Note 2: When a statement identical to that in paragraph (h) of this AD has been included in the general revisions of the AFM, the general revisions may be inserted into the AFM, and the copy of this AD may be removed from the AFM.

FAA AD Differences

Note 3: This AD differs from the MCAI and/or service information as follows: No differences.

Other FAA AD Provisions

(i) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue, SW., Renton, Washington 98057-3356; telephone (425) 227-1137; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(j) Refer to MCAI European Aviation Safety Agency (EASA) Airworthiness Directive 2009-0208R1, dated June 2, 2010, for related information.

Material Incorporated by Reference

(k) None.

Issued in Renton, Washington, on June 14, 2011.
Ali Bahrami,
Manager, Transport Airplane Directorate, Aircraft Certification Service.

[FR Doc. 2011-15368 Filed 6-21-11; 8:45 am]

BILLING CODE 4910-13-P